DEPARTMENT OF STATE

[Public Notice 4194]

Notice of Meetings: United States International Telecommunication Advisory Committee Information Meeting on the World Summit on the Information Society and the U.S. Preparatory Process

The Department of State announces meetings of the U.S. International Telecommunication Advisory Committee (ITAC). The purpose of the Committee is to advise the Department on matters related to telecommunication and information policy matters in preparation for international meetings pertaining to telecommunication and information issues.

The ITAC will meet to discuss the matters related to the World Summit on the Information Society (WSIS) which will take place in December 2003, including U.S. preparations for the WSIS. The meeting will take place on December 17, 2002, from 10 a.m. to 12 p.m. at the Historic National Academy of Science Building. The National Academy of Sciences is located at 2100 C St. NW., Washington, DC.

Members of the public are welcome to participate and may join in the discussions, subject to the discretion of the Chair. People intending to attend a meeting at the Department of State should send the following data by fax to (202) 647-7407 or e-mail to worsleydm@state.gov not later than 24 hours before the meeting: (1) name of the meeting, (2) your name, and (3) organizational affiliation. A valid photo ID must be presented to gain entrance to the National Academy of Sciences Building. Directions to the meeting location may be obtained by calling the ITAC Secretariat at 202 647-2592 or e-mail to worsleydm@state.gov.

Dated: November 26, 2002.
Sally Shipman,
Telecommunication Policy Advisor, Department of State.

[FR Doc. 02-30596 Filed 12-2-02; 8:45 am]

BILLING CODE 4710-07-P